ENVIRONMENTAL PROTECTION AGENCY

[OPP-2003-0334; FRL-7311-1]

Exposure Modeling Work Group; Notice of Public Meeting

AGENCY: Environmental Protection Agency (EPA).

ACTION: Notice.

SUMMARY: The Exposure Modeling Work Group (EMWG) will hold a 1-day meeting on June 10, 2003. This notice announces the location and time for the meeting and sets forth the tentative agenda topics.

DATES: The meeting will be held on June 10, 2003, from 9 a.m. to 3 p.m.

ADDRESSES: The meeting will be held at the Office of Pesticide Programs (OPP), Environmental Protection Agency, Crystal Mall #2, Room 1126 (Fishbowl), 1921 Jefferson Davis Hwy., Arlington, VA 22202.

FOR FURTHER INFORMATION CONTACT: Michael R. Barrett, Environmental Fate and Effects Division (7507C), Office of Pesticide Programs, Environmental Protection Agency, 1200 Pennsylvania Ave., NW., Washington, DC 20460-0001; telephone number: (703) 305-6391; fax number: (703) 305-6309; e-mail address: barrett.michael@epa.gov.

SUPPLEMENTARY INFORMATION:

I. General Information

A. Does this Action Apply to Me?

This action is directed to the public in general, and may be of particular interest to those persons who are or may be required to conduct testing of chemical substances under the Toxic Substances Control Act (TSCA), the Federal, Food, Drug, and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2003-0334. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Background

On a quarterly interval, the Exposure Modeling Workgroup meets to discuss current issues in modeling pesticide fate, transport, and exposure to pesticides in support of risk assessment in a regulatory context.

III. How Can I Request to Participate in this Meeting?

You may submit a request to participate in this meeting to the person listed under FOR FURTHER INFORMATION CONTACT.

IV. Tentative Agenda

This section provides tentative agenda topics for the 1-day meeting:

1. Welcome and introductions.

2. Old action items.

3. Brief updates.

• European Union activities.

• U.S. Department of Agriculture/Agricultural Research Service (USDA/ARS) Pesticide Properties Database.

• Pesticide Root Zone Model/Exposure Analysis Modeling System (PRZM/EXAMS) Model.

• Rice modeling.

• Watershed Regression for Pesticides (WARP) Model.

• Spray Drift Task Force progress.

• AgDrift EPA review.

• EXAMINER.

• Pesticide Leaching U.S. (PLUS).

• Cumulative and Aggregate Risk Evaluation System (CARES).

• Drinking water exposure estimates for dietary risk.

• Environmental Fate and Effects Division's (EFED) water quality projects.

• Perspective Groundwater (PGW) Database.

• EFED current issues in fate modeling.

4. Major topics:

• A rapid laboratory method for studying synergism.

• Techniques for estimating exposure time series and peak exposure levels.

• Geographic Information System (GIS) watershed analysis for refined aquatic risk assessments.

• Update on pesticide usage estimation procedures to support interpretation of monitoring data.

• PRZM/EXAMS quality control issues update.

• Software integrating frameworks for pesticide models.

5. Wrap-up and action items.

List of Subjects

Environmental protection, Pesticides, Pests, Modeling.

Dated: June 2, 2003.
Elizabeth Leovey,
Acting Director, Environmental Fate and Effects Division, Office of Pesticide Programs.

[FR Doc. 03-14311 Filed 6-3-03; 1:31 pm]

BILLING CODE 6560-50-S